DEPARTMENT OF DEFENSE

Department of the Army; Corps of Engineers

Notice of Availability of the Record of Decision on the Final Programmatic Environmental Impact Statement for the Mechanical and Artificial Creation and Maintenance of Emergent Sandbar Habitat in the Riverine Segments of the Upper Missouri River, Missouri River Basin, United States

AGENCY: Department of the Army, U.S. Army Corps of Engineers, DoD.

ACTION: Notice of availability.

SUMMARY: The District Commander of the Omaha District U.S. Army Corps of Engineers (Corps) has reviewed the “Final Programmatic Environmental Impact Statement (PEIS) for the Mechanical and Artificial Creation and Maintenance of Emergent Sandbar Habitat (ESH) on the Riverine Segments of the Upper Missouri River” and has made the decision to proceed with the implementation of an Adaptive Management Implementation Process (AMIP) (preferred alternative) with a construction ceiling of acres associated with Alternative 3.5. Specific details of the decision are captured in the Record of Decision (ROD) for this action. The ROD explains that the Corps will create and maintain ESH acres in the Fort Peck, Garrison, Fort Randall and Gavins Point River Segments, and the Lewis and Clark Lake Segment for the benefit of the Interior Population of the least tern (least tern) and the northern Great Plains piping plover (piping plover). The maximum potential acres of ESH to be created is approximately 4,370 acres total, with the following estimated maximum acres by reach:

• Fort Peck River, 565.

• Garrison River, 1,327.

• Fort Randall River, 212.

• Lewis & Clark Lake, 354.

• Gavins Point River, 1,913.

The AMIP alternative best supports the needs of the birds while providing flexibility in program implementation that will help minimize environmental impacts as well as costs.

ADDRESSES: Questions or comments on the ROD should be sent to: Department of the Army; Corps of Engineers, Omaha District; CENWO-PM-AC; ATTN: Emergent Sandbar Habitat Programmatic EIS; 1616 Capitol Avenue; Omaha, NE 68102-4901, or e-mailed to: Cynthia.s.upah@usace.army.mil.

FOR FURTHER INFORMATION CONTACT: Ms. Cynthia Upah, Project Manager, by telephone: (402) 995-2672, by mail: 1616 Capitol Avenue, Omaha, NE 68102-4901, or by e-mail: Cynthia.s.upah@usace.army.mil. For inquires from the media, please contact the USACE Omaha District Public Affairs Officer (PAO), Ms. Monique Farmer by telephone: (402) 995-2416, by mail: 1616 Capitol Avenue, Omaha, NE 68102, or by e-mail: Monique.l.farmer@usace.army.mil.

SUPPLEMENTARY INFORMATION: 1. Background. The ESH program resulted from a Biological Opinion (BiOp) issued by the U.S. Fish and Wildlife Service (USFWS) in which the Reasonable and Prudent Alternative (RPA) IV(b)3 called for the Corps to provide sufficient ESH acreage in order to meet biological metrics (fledge ratios) to avoid jeopardizing continued existence of the least tern and piping plover, as defined by the Endangered Species Act (ESA). The Final PEIS provides National Environmental Policy Act (NEPA) coverage for the proposed action.

The ROD discusses each alternative considered for the proposed action and those that are environmentally preferable. The Corps has identified an Adaptive Management Implementation Process (AMIP), with a construction ceiling of Alternative 3.5 (approximately 4,370 acres), as the selected plan. The key aspect of the AMIP is that, rather than selecting a specific acreage alternative, actions would be progressively implemented and monitored until the desired biological response of terns and plovers is attained and sustained. The Corps recognizes that alternative methods such as vegetation removal, while relatively untested, provide the potential to decrease impacts and costs, and could be incorporated if proven successful.

The FPEIS describes the potential environmental consequences of the alternatives considered in detail. During analysis, impacts of the larger alternatives (3, 2 and 1) were deemed to be moderate to high and impacts of lesser alternatives (3.5, 4 and 5) were deemed to be moderate to low. Alternative 3.5 represents a midrange of habitat available at a time when the birds were productive, and it is anticipated that biological metrics will be met before fully implementing up to Alternative 3.5. If Alternative 3.5 is fully implemented and biological metrics are not met, the Corps can consider continuing to higher acreage alternatives or other methodologies, in which case appropriate coordination and disclosure would be pursued (potential amended ROD or additional NEPA).

The AMIP allows for flexibility to provide habitat up to a point of meeting population goals, and to minimize impacts through approaches such as monitoring, redistributing acreage targets among segments if needed, avoiding sensitive resources, using less-impactful or costly construction methodologies as they become available, and avoiding over-construction of habitat.

Implementing the selected alternative will provide the most effective means for the Corps to meet its obligations, including avoiding jeopardy to the bird species, while managing the river for all authorized purposes. Risk of significant impacts to the environment appears to be low to moderate as a result of implementation of the ESH program, and numerous acres of ESH would be created, which is considered important not only to protected bird species, but to the overall ecology of the Missouri River.

Concurrently with the ROD, an errata sheet is also being made available, which provides the comments received on the Final PEIS along with the Corps response to each. Also included in the errata is an update regarding Tribal coordination and the PEIS.

2. Document Availability. The Final PEIS (May 2011), the ROD, the errata sheet, and an updated Final PEIS which incorporates the ROD and the errata items (August 2011), are available at: http://www.moriverrecovery.org/mrrp/f?p=MRRP:documents.

For more information about the Emergent Sandbar Habitat program, please visit http://www.moriverrecovery.org under “BiOp/Mit Efforts.”

Dated: August 15, 2011.
Christopher D. Wiehl,
Acting Chief, Planning Branch, Omaha District.

[FR Doc. 2011-21894 Filed 8-25-11; 8:45 am]

BILLING CODE 3720-58-P